DEPARTMENT OF LABOR

Employment and Training Administration

[TA-W-36,732 and NAFTA-3418]

F.G. Montabert, Midland Park, NJ; Dismissal of Application for Reconsideration

Pursuant to 29 CFR 90.18(C) an application for administrative reconsideration was filed with the Director of the Division of Trade Adjustment Assistance for workers at the F.G. Montabert, Midland Park, New Jersey. The application contained no new substantial information which would bear importantly on the Department's determination. Therefore, dismissal of the application was issued.

TA-W-36,732 and NAFTA-3418; F.G. Montabert, Midland Park, New Jersey (March 1, 2000).

Signed at Washington, D.C. this 2nd day of March, 2000.
Grant D. Beale,
Program Manager, Division of Trade Adjustment Assistance.

[FR Doc. 00-6374 Filed 3-14-00; 8:45 am]

BILLING CODE 4510-30-M